SECURITIES AND EXCHANGE COMMISSION

[File No. 500-1]

Emerging World Pharma, Inc.; Order of Suspension of Trading

December 6, 2012.

It appears to the Securities and Exchange Commission that there is a lack of current and accurate information concerning the securities of Emerging World Pharma, Inc. (“Emerging World”). Emerging World is a Florida corporation purportedly based in Manassas, Virginia and Sunyani, Ghana, and its stock is currently quoted on OTC Link, operated by OTC Markets Group, Inc. under the symbol EWPI. Questions have arisen concerning the adequacy and accuracy of press releases and other public statements concerning Emerging World's business operations and financial condition.

The Commission is of the opinion that the public interest and the protection of investors require a suspension of trading in the securities of Emerging World.

Therefore, it is ordered, pursuant to Section 12(k) of the Securities Exchange Act of 1934, that trading in the securities of the above-listed company is suspended for the period from 9:30 a.m. EST, on December 6, 2012 through 11:59 p.m. EST, on December 19, 2012.

By the Commission.
Jill M. Peterson,
Assistant Secretary.

[FR Doc. 2012-29841 Filed 12-6-12; 4:15 pm]

BILLING CODE 8011-01-P